NATIONAL AERONAUTICS AND SPACE ADMINISTRATION

[Notice 00-038]

NASA Advisory Council, Life and Microgravity Sciences and Applications Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Life and Microgravity Sciences and Applications Advisory Committee.

DATES: Thursday, May 18, 2000, 8:30 a.m. to 5 p.m.; and Friday, May 19, 2000, 8 a.m. to 12 Noon.

ADDRESSES: Center for Advanced Space Studies (CASS), 3600 Bay Area Blvd., 1045-Hess Room, Houston, TX 77058.

FOR FURTHER INFORMATION CONTACT: Dr. Stephen C. Davison, Code UG, National Aeronautics and Space Administration, Washington, DC 20546, 202/358-0647.

SUPPLEMENTARY INFORMATION: The meeting will be open to the public up to the seating capacity of the room. The agenda for the meeting is as follows:

• Overview of JSC: Roles and Responsibilities

• JSC: The Challenges

• OLMSA Overview: 2001 Budget Status and Issues

• Workshop Results: NASA/NCI Collaboration on Bio-Molecular Systems and Technology

• Ad Hoc Committee Report on Selection and Balancing of Mission Payloads

• NRC Report: Institutional Arrangements for Space Station Research

• JSC Bioastronautics Program

• JSC Cellular Biotechnology

• Discussion of Committee Findings and Recommendations

It is imperative that the meeting be held on this date to accommodate the scheduling priorities of the key participants. Visitors will be requested to sign a visitor's register.

Dated: April 24, 2000.
Matthew M. Crouch,
Advisory Committee Management Officer, National Aeronautics and Space Administration.

[FR Doc. 00-10495 Filed 4-26-00; 8:45 am]

BILLING CODE 7510-01-U